NATIONAL AERONAUTICS AND SPACE ADMINISTRATION

[Notice: (20-021)]

NASA Advisory Council; STEM Engagement Committee; Meeting

AGENCY: National Aeronautics and Space Administration.

ACTION: Notice of meeting.

SUMMARY: In accordance with the Federal Advisory Committee Act, as amended, the National Aeronautics and Space Administration (NASA) announces a meeting of the Science, Technology, Engineering and Mathematics (STEM) Engagement Committee of the NASA Advisory Council (NAC). This Committee reports to the NAC.

DATES: Thursday, March 26, 2019, 1:00-5:00 p.m., Eastern Time.

ADDRESSES: NASA Headquarters, Room 3H42A, 300 E Street SW, Washington, DC 20546.

FOR FURTHER INFORMATION CONTACT: Dr. Beverly Girten, Designated Federal Officer, Office of STEM Engagement, NASA Headquarters, Washington, DC 20546, (202) 358-0212, or beverly.e.girten@nasa.gov.

SUPPLEMENTARY INFORMATION: This meeting will be held at NASA Headquarters and will be open to the public to the capacity of the room and available telephonically and by WebEx. You must use a touch tone phone to participate in this meeting. Any interested person may dial the toll-free access number 1-844-467-6272 or local toll access number 1-720-259-6462, and then the numeric participant passcode: 423307 followed by the # sign. To join via WebEx, use link: https://nasaenterprise.webex.com/. The meeting number is 902 780 711 and the password is NACstem#26 (Password is case sensitive.) Note: If dialing in, please “mute” your telephone. The agenda for the meeting will include the following:

—Opening Remarks by Chair

—STEM Engagement Update

—National STEM Activities

—Priorities in Sparking Interest in STEM

—Performance and Evaluation Update

—Findings and Recommendations to the NASA Advisory Council

—Other Related Topics

It is imperative that the meeting be held on this date to accommodate the scheduling priorities of the key participants.

Patricia Rausch,
Advisory Committee Management Officer, National Aeronautics and Space Administration.

[FR Doc. 2020-04358 Filed 3-2-20; 8:45 am]

BILLING CODE 7510-13-P